DEPARTMENT OF AGRICULTURE

Cooperative State Research, Education, and Extension Service

7 CFR Part 3430

Competitive and Noncompetitive Non-formula Grant Programs—General Grant Administrative Provisions and Program-Specific Administrative Provisions for the Specialty Crop Research Initiative

AGENCY: Cooperative State Research, Education, and Extension Service, USDA.

ACTION: Interim rule; correction and comment period extension.

SUMMARY: The Cooperative State Research, Education, and Extension Service (CSREES) published on August 1, 2008, an interim final rule concerning one set of administrative requirements that contain elements common to all of the competitive and noncompetitive non-formula grant programs the Agency administers. That document contained an invalid E-mail address for the submission of comments. This document adds a valid E-mail address and extends the comment period for 30 days.

DATES: The comment period for the interim rule published August 1, 2008 (73 FR 44897), effective August 1, 2008, is extended until October 30, 2008.

ADDRESSES: You may submit comments, identified by RIN 0524-AA28, by any of the following methods:

Federal eRulemaking Portal: http://www.regulations.gov. Follow the instructions for submitting comments.

E-mail: Policy@csrees.usda.gov. Include Regulatory Information Number (RIN) number 0524-AA28 in the subject line of the message.

Fax: 202-401-7752.

Mail: Paper, disk or CD-ROM submissions should be submitted to Cooperative State Research, Education, and Extension Service, U.S. Department of Agriculture, STOP 2299, 1400 Independence Avenue, SW., Washington, DC 20250-2299.

Hand Delivery/Courier: Cooperative State Research, Education, and Extension Service, U.S. Department of Agriculture, Room 2258, Waterfront Centre, 800 9th Street, SW., Washington, DC 20024.

Instructions: All submissions received must include the agency name and the RIN for this rulemaking. All comments received will be posted without change to http://www.regulations.gov, including any personal information provided.

FOR FURTHER INFORMATION CONTACT: Erin Daly, Policy Section Leader, Office of Extramural Programs, Cooperative State Research, Education, and Extension Service, U.S. Department of Agriculture, STOP 2299, 1400 Independence Avenue, SW., Washington, DC 20250-2299; Voice: 202-401-3319; Fax: 202-401-7752; E-mail: edaly@csrees.usda.gov.

SUPPLEMENTARY INFORMATION: This correction is to replace an invalid E-mail address listed in the ADDRESSES section of the original document and to extend the comment period listed in the DATES section of the original document an additional 30 days. The correct address and comment submission instruction is: E-mail: Policy@csrees.usda.gov. Include Regulatory Information Number (RIN) number 0524-AA28 in the subject line of the message. The extended comment end period is October 30, 2008.

Done at Washington, DC, this 29th day of August, 2008.
Gale Buchanan,
Under Secretary, Research, Education, and Economics.

[FR Doc. E8-20562 Filed 9-4-08; 8:45 am]

BILLING CODE 3410-22-P